DEPARTMENT OF AGRICULTURE

Foreign Agricultural Service

Notice of Request for Revision of Currently Approved Information Collections

AGENCY: Foreign Agricultural Service, USDA.

ACTION: Notice and request for comments.

SUMMARY: In accordance with the Paperwork Reduction Act of 1995, this notice announces the Foreign Agricultural Service's (FAS) intention to request a revision for currently approved information collections in support of the foreign donation of agricultural commodities under the section 416(b) program, the Food for Progress Program, and the McGovern-Dole International Food for Education and Child Nutrition Program.

DATES: Comments on this notice must be received by April 7, 2014.

Additional Information: Contact Ronald Croushorn, Director, Food Assistance Division, Foreign Agricultural Service, U.S. Department of Agriculture, Stop 1034, Washington, DC 20250-1034, telephone: (202) 720-3038, email: Ron.Croushorn@fas.usda.gov.

SUPPLEMENTARY INFORMATION:

Title: Foreign Donation of Agricultural Commodities (section 416(b) and Food for Progress programs) and McGovern-Dole International Food for Education and Child Nutrition Program.

OMB Number: 0551-0035: Foreign Donation of Agricultural Commodities (section 416(b) and Food for Progress programs) and McGovern-Dole International Food for Education and Child Nutrition Program.

Expiration Date of Approval: March 31, 2014

Type of Request: Revision of currently approved information collections.

Abstract: Under the section 416(b) and Food for Progress programs (the “Foreign Donation Programs”) and the McGovern-Dole International Food for Education and Child Nutrition (“McGovern-Dole”) Program, information will be gathered from applicants desiring to receive grants under the programs to determine the viability of requests for resources to implement activities in foreign countries. Program participants that receive grants must submit compliance reports until commodities or local currencies generated from the sale thereof are utilized. Program participants that use the services of freight forwarders must submit certifications from the freight forwarders regarding their activities and affiliations. Documents are used to develop effective grant agreements and assure that statutory requirements and objectives are met.

Estimate of Burden: The public reporting burden for each respondent resulting from information collections under the Foreign Donation Programs or the McGovern-Dole Program varies in direct relation to the number and type of agreements entered into by such respondent. The estimated average reporting burden for the Foreign Donation Programs is 54.05705 hours per response and for the McGovern-Dole Program is 54.05705 hours per response.

Respondents: U.S. private voluntary organizations, U.S. cooperatives, foreign governments, freight forwarders, ship owners and brokers, and survey companies.

Estimated Number of Respondents: 68 per annum.

Estimated Number of Responses per Respondent: 31 per annum.

Estimated Total Annual Burden of Respondents: 112,763 hours.

Copies of this information collection can be obtained from Connie Ehrhart, the Agency Information Collection Coordinator, at (202) 690-1578 or email at Connie.Ehrhart@fas.usda.gov.

Request for comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology.

Comments may be sent to Ronald Croushorn, Director, Food Assistance Division, FAS, USDA, Stop 1034, Washington, DC 20250, or to Ron.Croushorn@fas.usda.gov. Comments may also be sent to the Desk Officer for Agriculture, Office of Information and Regulatory Affairs, Office of Management and Budget (OMB), Washington, DC 20503. Persons with disabilities who require an alternative means for communication of information (e.g., Braille, large print, audiotape, etc.) should contact USDA's Target Center at (202) 720-2600 (voice and TDD).

All responses to this notice will be summarized and included in the request for OMB approval. All comments will also become a matter of public record.

Signed at Washington, DC on January 27, 2014.
Philip C. Karsting,
Administrator, Foreign Agricultural Service.

[FR Doc. 2014-02343 Filed 2-4-14; 8:45 am]

BILLING CODE 3410-10-P